NATIONAL ARCHIVES AND RECORDS ADMINISTRATION

[NARA-2017-039]

Agency Information Collection Activities: Submission for OMB Review; Comment Request

AGENCY: National Archives and Records Administration (NARA).

ACTION: Notice.

SUMMARY: NARA has submitted to OMB for approval the information collections described in this notice. We invite you to comment on them.

DATES: OMB must receive written comments on or before June 9, 2017.

ADDRESSES: Send comments to Mr. Nicholas A. Fraser, desk officer for NARA, by mail to Office of Management and Budget; New Executive Office Building; Washington, DC 20503; fax to 202-395-5167; or by email to Nicholas_A._Fraser@omb.eop.gov.

FOR FURTHER INFORMATION CONTACT: Direct requests for additional information or copies of the proposed information collection and supporting statement to Tamee Fechhelm by phone at 301-837-1694 or by fax at 301-713-7409.

SUPPLEMENTARY INFORMATION: Pursuant to the Paperwork Reduction Act of 1995 (Pub. L. 104-13), NARA invites the general public and other Federal agencies to comment on proposed information collections. We published a notice of proposed collection for this information collection on February 27, 2017 (82 FR 11948) and we received no comments. We have therefore submitted the described information collection to OMB for approval.

You should address one or more of the following points in any comments or suggestions you submit: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses.

In this notice, we solicit comments concerning the following information collection:

Title: Application and permit for use of space in Presidential library and grounds.

OMB Number: 3095-0024.

Agency Form Number: NA Form 16011.

Type of Review: Regular.

Affected Public: Private organizations.

Estimated Number of Respondents: 1,000.

Estimated Time per Response: 20 minutes.

Frequency of Response: On occasion.

Estimated Total Annual Burden Hours: 333 hours.

Abstract: Regulations at 36 CFR 1280.94 require this information collection. The application is submitted to a Presidential library to request the use of space in the library for a privately sponsored activity. NARA uses the information to determine whether use will meet the criteria in 36 CFR 1280.94 and to schedule the date.

Swarnali Haldar,
Executive for Information Services/CIO.

[FR Doc. 2017-09418 Filed 5-9-17; 8:45 am]

BILLING CODE 7515-01-P